DEPARTMENT OF COMMERCE

National Telecommunications and Information Administration

DEPARTMENT OF AGRICULTURE

FEDERAL COMMUNICATIONS COMMISSION

Notice: American Recovery and Reinvestment Act of 2009 Broadband Initiatives

AGENCY: National Telecommunications and Information Administration, U.S. Department of Commerce; Rural Development, U.S. Department of Agriculture; Federal Communications Commission

ACTION: Joint Notice of Public Meeting

Summary: The National Telecommunications and Information Administration (NTIA), U.S. Department of Agriculture's Office of Rural Development, and Federal Communications Commission (FCC) will host a public meeting on March 10, 2009, in connection with the Broadband Initiatives funded by the American Recovery and Reinvestment Act of 2009, Public Law No. 111-5.

DATES: The meeting will be held on March 10, 2009, from 10:00 a.m. to 11:30 a.m., Eastern Standard Time.

ADDRESSES: The meeting will be held at the U.S. Department of Commerce, National Telecommunications and Information Administration, 1401 Constitution Avenue, N.W., Auditorium, Washington, D.C. (Please enter at 14th Street.) The disability accessible entrance is located at the 14th Street Aquarium Entrance. The meeting location is subject to change. Any change in the location will be posted on NTIA's website (www.ntia.doc.gov) prior to the meeting.

FOR FURTHER INFORMATION CONTACT: For further information regarding the meeting, contact Barbara Brown, NTIA, at (202) 482-4374 or bbrown@ntia.doc.gov or Mary Campanola, Rural Development, at (202)-720-8822 or mary.campanola@usda.gov or Christi Shewman, FCC, at (202) 418-1686 or christi.shewman@fcc.gov.

SUPPLEMENTARY INFORMATION: The American Recovery and Reinvestment Act of 2009 was signed into law on February 17, 2009. The Broadband Initiatives funded in the Act are intended to accelerate broadband deployment in unserved, underserved, and rural areas and to strategic institutions that are likely to create jobs or provide significant public benefits. NTIA, Rural Development, and the Federal Communications Commission will host a public meeting to discuss the broadband initiatives funded by the Act, including the new Broadband Technology Opportunities Program, the new Rural Development Broadband Program, and the development of a National Broadband Plan. The public meeting agenda and information about the new program will be available at NTIA's website at http://www.ntia.doc.gov/broadbandgrants, Rural Development's website at http://www.usda.gov/rurdev, and the FCC's website at http://www.fcc.gov. This will be the first of several Public Meetings.

Public attendance at the meeting is limited to space available. The meeting will be physically accessible to people with disabilities. Individuals requesting accommodations, such as sign language interpretation or other ancillary aids, are asked to indicate this to Barbara Brown at least two (2) days prior to the meeting. Members of the public will have an opportunity to ask questions at the meeting. The meeting will be streamed on the Web with captions and the archive will be made available on NTIA's website at http://www.ntia.doc.gov/broadbandgrants and Rural Development's website at http://www.usda/rurdev.

Dated: February 23, 2009.
Bernadette McGuire-Rivera,
Associate Administrator, Office of Telecommunications and Information Applications.

Dated: February 23, 2009.
David P. Grahn,
Associate General Counsel, Rural Development.

Dated: February 23, 2009.
P. Michele Ellison,
Acting General Counsel, Federal Communications Commission.

[FR Doc. E9-4194 Filed 2-26-09; 8:45 am]

BILLING CODE 3510-60-S